DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On June 19, 2019, OFAC determined that the property and interests in property subject to U.S. jurisdiction of the following person is blocked under the relevant sanctions authority listed below.

Entity

1. LIMITED LIABILITY COMPANY NON-BANK CREDIT ORGANIZATION RUSSIAN FINANCIAL SOCIETY (Cyrillic: ОбЩЕСТВО С ОГРАНИЧЕННОЙ ОТВЕТСТВЕННОСТЬЮ НЕБАНКОВСКАЯ КРЕДИТНАЯ ОРГАНИЗАЦИЯ РУССКОЕ ФИНАНСОВОЕ ОБЩЕСТВО) (a.k.a. LLC NCO RUSSIAN FINANCIAL SOCIETY (Cyrillic: НКО РУССКОЕ ФИНАНСОВОЕ ОБЩЕСТВО ООО)), house 9/26, building 1, Shchipok street, Moscow 115054, Russia; Secondary sanctions risk: North Korea Sanctions Regulations, sections 510.201 and 510.210; Tax ID No. 7744002860 (Russia); alt. Tax ID No. 770501001 (Russia); Registration Number 1027744004903 (Russia) [NPWMD].

Designated pursuant to section 1(a)(iii) of Executive Order 13382 of June 28, 2005, “Blocking Property of Weapons of Mass Destruction Proliferators and Their Supporters” (E.O. 13382), for having provided, or attempted to provide, financial, material, technological or other support for, or goods or services in support of, DANDONG ZHONGSHENG INDUSTRY & TRADE CO., LTD, a person whose property or interests in property are blocked pursuant to this order.

Dated: June 19, 2019.
Andrea Gacki,
Director, Office of Foreign Assets Control.

[FR Doc. 2019-13393 Filed 6-24-19; 8:45 am]

BILLING CODE 4810-AL-P